NUCLEAR REGULATORY COMMISSION

[Docket Nos. 50-277 and 50-278; NRC-2024-0214; CEQ ID SEIS-429-00-000-1734688863]

Constellation Energy Generation, LLC; Peach Bottom Atomic Power Station, Units 2 and 3; Notice of Intent To Prepare a Supplement to the Supplemental Environmental Impact Statement

AGENCY: Nuclear Regulatory Commission.

ACTION: Notice.

SUMMARY: The U.S. Nuclear Regulatory Commission (NRC, the Commission) staff will prepare a supplement to NUREG-1437, “Generic Environmental Impact Statement for License Renewal of Nuclear Plants,” Supplement 10, Second Renewal, “Regarding Subsequent License Renewal for Peach Bottom Atomic Power Station Units 2 and 3,” dated January 2020 (the final supplemental environmental impact statement (SEIS)) in order to complete its evaluation of the environmental impacts of the subsequent license renewal (SLR) of Renewed Facility Operating License Nos. DPR-44 and DPR-56 for Peach Bottom Atomic Power Station (Peach Bottom), Units 2 and 3, respectively. The supplement will address new information since the issuance of the final SEIS. A draft of the supplement will be issued for public comment.

DATES: January 7, 2025.

ADDRESSES: Please refer to Docket ID NRC-2024-0214 when contacting the NRC about the availability of information for this action. You may obtain publicly available information related to this action by any of the following methods:

• Federal Rulemaking website: Go to https://www.regulations.gov and search for Docket ID NRC-2024-0214. Go to https://www.regulations.gov and search for Docket ID NRC-2024-0214. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced in this document (if it is available in ADAMS) is provided the first time that it is referenced.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Kevin Folk, telephone: 301-415-6944; email: Kevin.Folk@nrc.gov or Karen Loomis, telephone: 301-415-5142; email: Karen.Loomis@nrc.gov. Both are staff in the Office of Nuclear Material Safety and Safeguards, U.S. Nuclear Regulatory Commission, Washington, DC 20555-0001.

SUPPLEMENTARY INFORMATION:

I. Background

By letter dated July 10, 2018 (ADAMS Package Accession No. ML18193A689), Exelon Generation Company, LLC (now operating as Constellation Energy Generation, LLC (CEG)) submitted to the NRC an application, filed pursuant to section 103 of the Atomic Energy Act of 1954, as amended, and part 54 of title 10 of the Code of Federal Regulations (10 CFR), “Requirements for Renewal of Operating Licenses for Nuclear Power Plants,” for subsequent renewed facility operating licenses with expiration dates of August 8, 2053, for Peach Bottom, Unit 2 and July 2, 2054, for Peach Bottom, Unit 3, which are 20 years beyond when the current renewed facility operating licenses expire. The SLR application included an environmental report (ADAMS Package Accession No. ML18271A185). Peach Bottom is located primarily in Peach Bottom Township, York County, Pennsylvania, near Delta, Pennsylvania.

A notice of receipt of the Peach Bottom SLR application was published in the Federal Register on August 1, 2018 (83 FR 37529). A notice of acceptance for docketing of the application and opportunity to request a hearing was published in the Federal Register on September 6, 2018 (83 FR 45285). A notice of intent to conduct a scoping process and prepare a SEIS was published in the Federal Register on September 10, 2018 (83 FR 45692). A notice of issuance of the draft SEIS and request for comment was published in the Federal Register on August 7, 2019 (84 FR 38676). A notice of issuance of the final SEIS was published in the Federal Register on January 31, 2020 (85 FR 5725). A notice of issuance of the subsequent renewed facility operating licenses was published in the Federal Register on March 11, 2020 (85 FR 14247). The issuance of the licenses was also supported by an NRC Record of Decision (ROD) (ADAMS Accession No. ML20024G429).

The final SEIS (ADAMS Accession No. ML20023A937) and the ROD document the NRC staff's environmental review, including its recommendation that the adverse environmental impacts of SLR for Peach Bottom are not so great that preserving the option of license renewal for energy-planning decisionmakers would be unreasonable. As discussed in the final SEIS and the ROD, the NRC staff considered the reasonably foreseeable environmental impacts of SLR for Peach Bottom, as well as a range of reasonable alternatives to SLR. As part of its environmental review, the NRC staff relied upon NUREG-1437, Revision 1, “Generic Environmental Impact Statement for License Renewal of Nuclear Plants,” dated June 2013 (ADAMS Package Accession No. ML13107A023) (the 2013 LR GEIS), to meet its obligations under the NRC's environmental protection regulations in 10 CFR part 51, “Environmental Protection Regulations for Domestic Licensing and Related Regulatory Functions,” and the National Environmental Policy Act of 1969, as amended. Specifically, for issues classified as Category 1 (generic to all or a distinct subset of nuclear power plants) in the 2013 LR GEIS, the NRC staff did not identify new and significant information and, therefore, relied upon the conclusions of the 2013 LR GEIS for all those issues applicable to Peach Bottom. For issues classified as Category 2 (specific to individual nuclear power plants) in the 2013 LR GEIS, the NRC staff evaluated those issues applicable to Peach Bottom in the final SEIS.

On February 24, 2022, the Commission issued three memoranda and orders, Commission Legal Issuance (CLI)-22-02 (ADAMS Accession No. ML22055A496), CLI-22-03 (ADAMS Accession No. ML22055A527), and CLI-22-04 (ADAMS Accession No. ML22055A557), that addressed the NRC staff's environmental reviews in SLR proceedings for five nuclear power plants, including Peach Bottom. The Commission concluded that the 2013 LR GEIS, on which the NRC staff had relied, in part, for its environmental reviews of the SLR applications for the affected nuclear power plants, did not consider SLR. Therefore, the Commission determined that these environmental reviews were inadequate. Accordingly, the Commission directed the NRC staff to leave the Peach Bottom subsequent renewed facility operating licenses in place but to modify their expiration dates to reflect the end dates of the previous renewed facility operating licenses (i.e., August 8, 2033, for Peach Bottom, Unit 2 and July 2, 2034, for Peach Bottom, Unit 3), which the staff did on March 25, 2022 (ADAMS Accession No. ML22073A207). The Commission affirmed this direction in CLI-22-07 (ADAMS Accession No. ML22154A217).

In CLI-22-03, the Commission directed the NRC staff to update the 2013 LR GEIS so that it covers nuclear power plant operation during the SLR period. The Commission stated that it believed the most efficient way to proceed would be for the NRC staff to update the 2013 LR GEIS and then take appropriate action with respect to pending SLR applications to ensure that the environmental impacts for the period of SLR are considered. Consistent with this Commission direction, on August 6, 2024, the NRC published the final rule “Renewing Nuclear Power Plant Operating Licenses—Environmental Review” (89 FR 64166). The final rule amended the NRC environmental protection regulations in 10 CFR part 51 to update the potential environmental impacts associated with the renewal of an operating license for a nuclear power plant for up to an additional 20 years, for either an initial license renewal or an SLR term. As part of this update, the NRC also issued Revision 2 to NUREG-1437 (the 2024 LR GEIS) (ADAMS Package Accession No. ML24087A133), which provides the technical basis for the final rule. Specifically, the 2024 LR GEIS supports the updated list of environmental issues and associated environmental impact findings contained in Table B-1 in Appendix B to Subpart A of the revised 10 CFR part 51 for both initial license renewal and SLR. The final rule became effective on September 5, 2024.

II. Discussion

Pursuant to the Commission's direction in CLI-22-04 to complete the National Environmental Policy Act of 1969, as amended, analysis for Peach Bottom SLR, the NRC staff will prepare a supplement to the final SEIS in accordance with 10 CFR 51.92. For the purposes of this supplement, the staff will assess whether new information since the final SEIS, including the 2024 final rule and the 2024 LR GEIS, warrants any modification to the NRC staff's previous recommendation that the adverse environmental impacts of SLR for Peach Bottom are not so great that preserving the option of license renewal for energy-planning decisionmakers would be unreasonable. In support of the development of the supplement, CEG submitted additional environmental information to the NRC by letter dated November 14, 2024 (ADAMS Package Accession No. ML24319A074). Together, the supplement and the previously issued final SEIS will evaluate all of the environmental impacts of continued operation during the SLR term for Peach Bottom, Unit 2 from August 8, 2033, to August 8, 2053, and for Peach Bottom, Unit 3 from July 2, 2034, to July 2, 2054. The draft supplement will be issued for public comment.

Dated: December 31, 2024.
For the Nuclear Regulatory Commission.
Stephen Koenick,
Chief, Environmental Project Management Branch 1, Division of Rulemaking, Environment, and Financial Support, Office of Nuclear Material Safety and Safeguards.

[FR Doc. 2024-31786 Filed 1-6-25; 8:45 am]

BILLING CODE 7590-01-P